DEPARTMENT OF ENERGY

Federal Energy Regulatory Commission

[Docket No. EG01-314-000, et al.]

Ameren Energy Generating Company, et al.; Electric Rate and Corporate Regulation Filings

September 19, 2001.

Take notice that the following filings have been made with the Commission:

1. Ameren Energy Generating Company

[Docket No. EG01-314-000]

Take notice that on September 17, 2001, Ameren Energy Generating Company (AEG), One Ameren Plaza, 1901 Chouteau Plaza, P.O. Box 66149, St. Louis, Missouri, 63166-6149, filed with the Federal Energy Regulatory Commission (Commission), an application for determination of continuing exempt wholesale generator status pursuant to Part 365 of the Commission's Regulations.

AEG states that it acquired the following units, as further detailed in the application: Pinckneyville, Illinois Unit No. 8 and Columbia, Missouri Unit No. 1. Both units are 36 MW gas-fired combustion turbine units, with a commercial operation date of July 28, 2001. AEG states that all of the electric energy from these facilities will be sold at wholesale.

Comment date: October 10, 2001, in accordance with Standard Paragraph E at the end of this notice. The Commission will limit its consideration of comments to those that concern the adequacy or accuracy of the application.

2. Ameren Services Company

[Docket No. ER01-3057-000]

Take notice that on September 14, 2001, Ameren Services Company (ASC) tendered for filing a Transmission System Interconnection Agreement and Parallel Operating Agreement between ASC and Holland Energy, LLC. ASC asserts that the purpose of the Agreement is to permit ASC to provide transmission service to Holland Energy, LLC pursuant to Ameren's Open Access Transmission Tariff.

Comment date: October 5, 2001, in accordance with Standard Paragraph E at the end of this notice.

3. American Electric Power Services Corporation

[Docket No. ER01-3058-000]

Take notice that on September 14, 2001, American Electric Power Services Corporation (AEPSC), as agent for Appalachian Power Company, Central Power and Light Company, Columbus Southern Power Company, Indiana Michigan Power Company, Kentucky Power Company, Kingsport Power Company, Ohio Power Company, Public Service Company of Oklahoma, Southwestern Electric Power Company, West Texas Utilities Company and Wheeling Power Company, submitted for filing a revised, integrated network operating agreement and network service agreement (the Agreement) between the AEP Operating Companies and Northeast Texas Electric Cooperative, Inc. (NTEC).

AEPSC requests and effective date of October 1, 2000 for the revised Agreement.

AEPSC states that a copy of the filing has been served on NTEC, Upshur Rural Electric Cooperative Corporation and the Public Utility Commission of Texas.

Comment date: October 5, 2001, in accordance with Standard Paragraph E at the end of this notice.

4. Doswell Limited Partnership

[Docket No. ER01-3059-000]

Take notice that on September 14, 2001, Doswell Limited Partnership (Doswell) filed with the Federal Energy Regulatory Commission (the Commission) the Second Amended and Restated Power Purchase Agreement between Doswell and Virginia Electric and Power Company, designated as Second Revised Service Agreement No. 1 under Doswell's existing market-based rate schedule (FERC Electric Tariff No. 1).

A copy of this filing was served upon Virginia Electric and Power Company.

Comment date: October 5, 2001, in accordance with Standard Paragraph E at the end of this notice.

5. Doswell Limited Partnership

[Docket No. ER01-3060-000]

Take notice that on September 14, 2001, Doswell Limited Partnership (Doswell) filed with the Federal Energy Regulatory Commission (the Commission) the Third Amended and Restated Power Purchase Agreement between Doswell and Virginia Electric and Power Company, designated as Original Service Agreement No. 2 under Doswell's existing market-based rate schedule (FERC Electric Tariff No. 1).

A copy of this filing was served upon Virginia Electric and Power Company.

Comment date: October 5, 2001, in accordance with Standard Paragraph E at the end of this notice.

6. South Carolina Electric & Gas Company

[Docket No. ER01-3061-000]

Take notice that on September 14, 2001, South Carolina Electric & Gas Company (SCE&G) filed a Network Integration Transmission Service Agreement and a Network Operating Agreement between SCE&G Electric Transmission and SCE&G Merchant Function (Agreement), under which SCE&G Merchant Function will take transmission service pursuant to SCE&G Electric Transmission's Open Access Transmission Service Tariff in order to provide the transmission service necessary to allow SCE&G to provide power and energy to the City of Orangeburg, South Carolina (Orangeburg) pursuant to an agreement with Orangeburg under SCE&G's Negotiated Market Sales Tariff.

SCE&G has requested an effective date for this Agreement of May 1, 2001.

Comment date: October 5, 2001, in accordance with Standard Paragraph E at the end of this notice.

7. Virginia Electric and Power Company

[Docket No. ER01-3062-000]

Take notice that on September 14, 2001, Virginia Electric and Power Company (Dominion Virginia Power) tendered for filing Notice of Termination of Service Agreement with Coastal Electric Services Company designated as First Revised Service No. 24 under FERC Electric Tariff, Original Volume No. 4.

Dominion Virginia Power respectfully requests a waiver of the Commission's regulations to permit an effective date of October 20, 2001, as requested by the customer.

Copies of the filing were served upon El Paso Merchant Energy, L.P., the Virginia State Corporation Commission and the North Carolina Utilities Commission.

Comment date: October 5, 2001, in accordance with Standard Paragraph E at the end of this notice.

8. Southern Indiana Gas & Electric Company

[Docket No. ER01-3063-000]

Take notice that on September 14, 2001, Southern Indiana Gas & Electric Company (SIGECO) tendered for filing a Notice of Cancellation of Rate Schedule FPC No. 29, which is a contract between SIGECO and Alcoa Power Generating Inc. (APGI). In conformity with Order No. 614 SIGECO also tendered a canceled rate schedule sheet.

SIGECO respectfully requests that the Commission accept its filing and allow the cancellation to become effective as of November 15, 2001.

Copies of the filing were served upon APGI and the Indiana Utility Regulatory Commission.

Comment date: October 5, 2001, in accordance with Standard Paragraph E at the end of this notice.

9. Hardee Power Partners Limited

[Docket No. ER01-3064-000]

Take notice that on September 14, 2001, Hardee Power Partners Limited (HPP) submitted an abbreviated rate filing in connection with amendments (Fifth Amendments) to two power sales agreements providing for the sale of electric capacity and associated energy to Seminole Electric Cooperative, Inc. (Seminole) and Tampa Electric Company (Tampa Electric), the rates under which were previously accepted by the Commission.

HPP requests waiver of the Commission's sixty (60) day notice requirements and an effective date of February 1, 2001.

HPP has served copies of the filing on Seminole, Tampa Electric and the Florida Public Service Commission.

Comment date: October 5, 2001, in accordance with Standard Paragraph E at the end of this notice.

10. Colton Power, L.P.

[Docket No. ER01-3068-000]

Take notice that on September 14, 2001, Colton Power, L.P. (Colton) tendered for filing with the Federal Energy Regulatory Commission (Commission), in compliance with Section 205(c) of the Federal Power Act (FPA) and Section 35.1(a) of the Commission's Regulations, the Master Power Purchase and Sale Agreement, dated April 23, 2001 between the California Department of Water Resources (CDWR) and the Applicant's predecessor, Alliance Colton LLC (Alliance-Colton)

Comment date: October 5, 2001, in accordance with Standard Paragraph E at the end of this notice.

Standard Paragraph

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket# ” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23839 Filed 9-24-01; 8:45 am]

BILLING CODE 6717-01-P